DEPARTMENT OF LABOR

Employment and Training Administration

Workforce Innovation and Opportunity Act; Native American Employment and Training Council

AGENCY: Employment and Training Administration, U. S. Department of Labor.

ACTION: Notice of meeting.

SUMMARY: Pursuant to the Federal Advisory Committee Act (FACA), as amended, and the Workforce Innovation and Opportunity Act (WIOA), notice is hereby given of the next meeting of the Native American Employment and Training Council (Council), as constituted under WIOA.

DATES: The meeting will begin at 9:00 a.m., (Pacific Daylight Time) on Tuesday, May 23, 2017, and continue until 5:00 p.m. that day. The meeting will reconvene at 9:00 a.m. on Wednesday, May 24, 2017 and adjourn at 12:00 p.m. that day. The period from 3:00 p.m. to 5:00 p.m. on May 23, 2017 is reserved for participation and comment by members of the public.

ADDRESSES: The meeting will be held at the Sheraton Gateway, 6101 West Century Boulevard, Los Angeles, California 90045.

FOR FURTHER INFORMATION CONTACT: Athena R. Brown, DFO, Division of Indian and Native American Programs, Employment and Training Administration, U.S. Department of Labor, Room S-4209, 200 Constitution Avenue NW., Washington, DC 20210. Telephone number (202) 693-3737 (VOICE) (this is not a toll-free number).

SUPPLEMENTARY INFORMATION: The meeting will be open to the public. Members of the public not present may submit a written statement on or before May 19, 2017, to be included in the record of the meeting. Statements are to be submitted to Athena R. Brown, Designated Federal Officer (DFO), U.S. Department of Labor, 200 Constitution Avenue NW., Room S-4209, Washington, DC 20210. Persons who need special accommodations should contact Craig Lewis at (202) 693-3384, at least two business days before the meeting. The formal agenda will focus on the following topics: (1) Transition paper; (2) Performance Indicators; (3) U.S. Department of Labor, Employment and Training Administration Update and follow-up on the Implementation of the Workforce Innovation and Opportunity Act (WIOA) of 2014 and Final Rule; (4) Training and Technical Assistance; (5) Council and Workgroup Updates and Recommendations; (6) New Business and Next Steps; and (7) Public Comment.

Signed at Washington, DC, March 17, 2017.
Byron Zuidema,
Deputy Assistant Secretary, Employment and Training Administration.

[FR Doc. 2017-06778 Filed 4-4-17; 8:45 am]

BILLING CODE 4501-FR-P